GENERAL SERVICES ADMINISTRATION

41 CFR Parts 101-40 and 102-117

[FPMR Amendment G- ]

RIN 3090-AH16

Transportation Management

AGENCY: Office of Governmentwide Policy, GSA.

ACTION: Proposed rule.

SUMMARY: The General Services Administration (GSA) is revising the Federal Property Management Regulations (FPMR) by moving coverage on transportation and traffic management into the Federal Management Regulation (FMR). A cross-reference is added to the FPMR to direct readers to the coverage in the FMR. The FMR coverage is written in plain language to provide agencies with updated regulatory material that is easy to read and understand.

DATES: Send your written comments by April 28, 2000.

ADDRESSES: Send your written comments to Ms. Sharon A. Kiser, Regulatory Secretariat (MVRS), Office of Governmentwide Policy, General Services Administration, 1800 F Street, NW., Room 4035, Washington, DC 20405.

Send e-mail comments to: RIN.3090-AH16@gsa.gov

FOR FURTHER INFORMATION CONTACT: Ms. Elizabeth Allison, Program Analyst, Transportation Management Policy, Office of Governmentwide Policy, General Services Administration, at 202-219-1729, or Internet e-mail at elizabeth.allison@gsa.gov

SUPPLEMENTARY INFORMATION:

A. Background

In response to President Clinton's mandate to Federal agencies to make communication with the public more understandable, General Services Administration (GSA) is issuing this Federal Management Regulation (FMR) in which it proposes to revise and clarify the transportation management policies by putting them into plain language and making substantial changes. The proposed rule creates a new part that will phase in the use of commercial transportation documents, such as bills of lading, and retires the corresponding Government transportation documents whenever possible.

The FMR is in the question and answer format. Question and answer format is an effective way to engage the reader and to break the information into manageable pieces. The FMR asks questions in the first person, as the user would. It then answers the questions in the second and third person. The FMR addresses the agency in the singular.

B. Proposed Changes

The Treasury, Postal and General Government Appropriations Act of 1994 (see Public Law 103-123; 107 Stat. 1226, 1247) changed the General Services Administration (GSA) to a nonmandatory source of transportation services. Therefore, we propose to shift the focus of the transportation regulations away from how agencies should use GSA's household goods and freight shipment programs as mandatory sources of these services. Our proposed changes are:

(a) To provide broad policy for agencies to develop transportation programs that best suit their needs.

(b) To require all contracts and rate tenders include the terms and conditions formerly annotated on the Government bills of lading. All transportation documents must reference the applicable contract or rate tender.

(c) To include general business rules a transportation manager will consider before buying transportation services. These rules give a broad range of guidelines to ensure compliance with other governmental directives and compliance with all Federal, State and local laws.

(d) To retire the use of the Standard Forms 1103 and 1203, Government Bill of Lading, for domestic freight and household goods shipments by September 30, 2001.

(e) To expand the information on choices for acquiring transportation and transportation related services and incorporate the terms and conditions previously noted on the paper GBL in all contracts and agreements.

(f) To expand the use of charge cards as an alternative payment for transportation services. Through discretionary authority, agencies must set up their own administrative rules covering accountability, exceptions and limits of the charge card.

(g) To introduce performance measures to help agencies in deciding how well they perform the transportation function and support the agency mission.

(h) To introduce a section on transportation service provider's performance defining what transportation managers should expect in the contractual agreement and what recourse is available for nonperformance.

(i) To add a requirement for reports, which will promote the use of electronic data and other information technologies. Reporting transportation costs will help agencies in collecting information for forecasting and planning. Agencies will have the data to substantiate and promote how transportation is interwoven throughout the agency and contributes to the strategic goals and mission as required by the Government Performance and Results Act (GPRA) of 1993 (Public Law 103-62, 31 U.S.C. 1115).

(j) To make a separate section on representation before regulatory bodies to clarify the authority granted to GSA and how an agency may request help.

C. Executive Order 12866

GSA has determined that this proposed rule is not a significant regulatory action for the purposes of Executive Order 12866 of September 30, 1993.

D. Regulatory Flexibility Act

The Associate Administrator for Governmentwide Policy hereby certifies that this proposed rule will not have a significant economic impact on a substantial number of small entities within the meaning of the Regulatory Flexibility Act, 5 U.S.C. 601, et seq., because the rule only applies to internal agency management and will not have a significant affect on the public. An Initial Regulatory Flexibility Analysis has, therefore, not been performed. Comments invited from small entities concerning the affected FMR subparts will be considered in accordance with 5 U.S.C. 601. Interested parties must submit such comments separately and should cite 5 U.S.C. 601, et seq.

E. Paperwork Reduction Act

The Paperwork Reduction Act does not apply because this proposed rule does not impose recordkeeping or information collection requirements, or the collection of information from contractors, or members of the public which require the approval of the Office of Management and Budget (OMB) under 44 U.S.C. 501-517.

F. Small Business Regulatory Enforcement Fairness Act

This proposed rule is exempt from Congressional review under 5 U.S.C. 801 since it relates solely to agency management and personnel.

List of Subjects in 41 CFR Parts 101-40 and 102-117

Freight, Government property management, Moving of household goods, Reporting and recordkeeping requirements, Transportation.

For the reasons set forth in the preamble, GSA proposes to amend 41 CFR chapters 101 and 102 as follows:

CHAPTER 101—[AMENDED]

1. Part 101-40 is revised to read as follows:

PART 101-40—TRANSPORTATION AND TRAFFIC MANAGEMENT

Authority: 40 U.S.C. 486(c); Sec. 205(c), 63 Stat. 390.

§ 101-40.000 Cross-reference to the Federal Management Regulation (FMR) (41 CFR chapter 102, parts 102-1 through 102-220).

For information on transportation management previously contained in this part, see FMR part 117 (41 CFR 102-117).

CHAPTER 102—[AMENDED]

2. Part 102-117 is added to subchapter D to read as follows:

PART 102-117—TRANSPORTATION MANAGEMENT

Sec.

102-117.5 What is transportation management?

102-117.10 What is the scope of this part?

102-117.15 To whom does this part apply?

102-117.20 Are any agencies exempt from this part?

102-117.25 What definitions apply to this part?

Subpart A—Acquiring Transportation or Related Services

102-117.30 Are there mandatory services I must use when acquiring transportation or transportation related services?

102-117.35 What choices do I have when acquiring transportation and related services?

102-117.40 When is it advantageous for me to use another agency's contractor rate tender for transportation services?

102-117.45 What other factors must I consider when using another agency's contract or rate tender?

102-117.50 What are the advantages and disadvantages for me to contract directly with a TSP under FAR?

102-117.55 What are the advantages and disadvantages for me to use a rate tender?

102-117.60 What are rate tenders?

102-117.65 What is the importance of the terms and conditions in a rate tender or other transportation document?

102-117.70 Where do I find more information on terms and conditions?

102-117.75 How do I reference the rate tender on transportation documents?

102-117.80 How are rate tenders filed?

102-117.85 Where must I send a copy of a rate tender for audit purposes?

102-117.90 What is the difference between a Government Bill of Lading (GBL) and a bill of lading?

102-117.95 May I use the Standard Forms 1103 and 1203, GBLs, to acquire freight, household goods or other related transportation services?

102-117.100 After the GBLs retire for domestic shipments, what transportation documents may I use to acquire freight, household goods or other transportation services?

Subpart B—Business Rules to Consider Before Shipping Freight and Household Goods

102-117.105 What business rules must I consider before acquiring transportation or related services?

102-117.110 What does best value mean when routing shipments?

102-117.115 What is satisfactory service?

102-117.120 How do I calculate total delivery costs?

102-117.125 To what extent must I distribute orders for transportation and related services equally among TSPs?

102-117.130 How detailed must I describe property for shipment?

102-117.135 What factors must I use to decide the most fuel-efficient TSP?

102-117.140 Must I select TSPs who use alternative fuels?

Subpart C—Restrictions That Affect Transportation of Freight and Household Goods

102-117.145 Are there any specific restrictions for international transportation?

102-117.150 What is cargo preference?

102-117.155 What are the coastwise laws?

102-117.160 What do I need to know about the coastwise laws?

102-117.165 Where do I go for further information or exceptions to the coastwise laws?

Subpart D—Shipping Freight

102-117.170 What is freight?

102-117.175 What shipping process must I use for freight?

102-117.180 What reference materials are available for shipping freight?

102-117.185 What determines the mode of transportation?

102-117.190 What documents must I use to ship freight?

102-117.195 Where do I send a copy of these documents?

Subpart E—Shipping Hazardous Material (HAZMAT)

102-117.200 What is HAZMAT?

102-117.205 What are the restrictions for transporting HAZMAT?

102-117.210 Where can I get guidance on transporting HAZMAT?

Subpart F—Shipping Household Goods

102-117.215 What are household goods?

102-117.220 What choices do I have to ship HHG?

102-117.225 What is the difference between a contract, a rate tender and a commuted rate system?

102-117.230 Must I perform a cost comparison between a contract, a rate tender and the commuted rate system before choosing which method to use?

102-117.235 Why is a cost comparison necessary?

102-117.240 How do I get a cost comparison?

102-117.245 What is my agency's financial responsibility to an employee who chooses to move all or part of his/her HHG under the commuted rate system?

102-117.250 What is my responsibility in providing guidance to an employee who wishes to select a more expensive TSP?

102-117.255 What are my responsibilities after the household goods are shipped?

102-117.260 What actions may I take if the TSP's performance is not satisfactory?

102-117.265 What must I do if there is an overage, shortage, loss or damage to the property shipped?

102-117.270 Where do I go for details on preparing discrepancy reports?

102-117.275 Where do I send discrepancy reports?

102-117.280 What are my responsibilities to employees regarding the TSP's liability for loss or damage claims?

102-117.285 Can I file a claim for loss or damage to property?

102-117.290 Are there time limits affecting the filing of a claim?

102-117.295 Does each mode have different time limits for administrative claims?

102-117.300 What are the time limits for judicial claims?

Subpart G—Performance Measures

102-117.305 What are performance measures in transportation?

Subpart H—Transportation Service Provider (TSP) Performance

102-117.310 What performance may I expect from a TSP?

102-117.315 What aspects of the TSP's performance are important to measure?

102-117.320 What are my choices if a TSP's performance is not satisfactory?

102-117.325 What is the difference between temporary nonuse, suspension and debarment?

102-117.330 Who makes these decisions?

102-117.335 Do these decisions go beyond the agency?

102-117.340 Where do I go for additional information on the process for suspending or debarring of a TSP?

102-117.345 What records must I keep on temporary nonuse, suspension or debarment of a TSP?

102-117.350 Who must I notify on suspension or debarment of a TSP?

Subpart I—Representation Before Regulatory Body Proceedings

102-117.355 What are transportation regulatory body proceedings?

102-117.360 May my agency appear on its own behalf before transportation regulatory body proceedings?

102-117.365 When or under what circumstances would GSA delegate authority to appear before transportation regulatory body proceedings?

102-117.370 How does my agency ask for a delegation to represent itself in a regulatory body proceeding?

102-117.375 What oversight authority does GSA have on transportation?

Subpart J—Reports

102-117.380 Is there a requirement for me to report to GSA on my transportation activities?

102-117.385 How will GSA use the reporting requirements?

Subpart K—Governmentwide Transportation Policy Council (GTPC)

102-117.390 Is there a Government forum where I can share my concerns and receive information on the challenges of transporting freight and household goods?

102-117.395 Where can I get more information about the GTPC?

Authority: 31 U.S.C. 3726; 40 U.S.C. 481, et seq.

§ 102-117.5 What is transportation management?

Transportation management is the oversight, by an agency, of the physical movement of products, household goods (HHG) and other objects from one location to another by a transportation service provider (TSP).

§ 102-117.10 What is the scope of this part?

This part addresses the shipment of freight and household goods worldwide. Freight is Government property. Household goods are unique because they are employees' personal property entrusted to the Government for shipment.

§ 102-117.15 To whom does this part apply?

This part applies to all agencies and wholly owned Government corporations as defined in 5 U.S.C. 101 et seq. and 31 U.S.C. 9101(3).

§ 102-117.20 Are any agencies exempt from this part?

Yes, the following agencies are exempt from this part:

(a) The Department of Defense is exempted from this part by an agreement under the Federal Property and Administrative Services Act of 1949, as amended (40 U.S.C. 481 et seq.), except for the rules to debar or suspend a TSP under the Federal Acquisition Regulation (48 CFR part 9, subpart 9.4).

(b) In addition, subpart C of this part, covering household goods, does not apply to the uniform service members, under title 37 of the United States Code, “Pay and Allowances of the Uniformed Services,” such as, the uniformed service members serving in the U.S. Coast Guard, National Oceanic and Atmospheric Administration and the Public Health Service.

§ 102-117.25 What definitions apply to this part?

The following definitions apply to this part:

Accessorial charges are charges for services other than freight charges such as inside delivery, redelivery, reconsignment, and demurrage or detention for freight; and packing, unpacking, appliance servicing, blocking and bracing, weekend delivery and special handling for household goods.

Agency is any executive agency or wholly owned Government corporation (5 U.S.C. 101 et seq. and 31 U.S.C. 9101(3)).

Bill of lading, sometimes referred to as a commercial bill of lading, is the document used as a receipt of goods and documentary evidence of title. It also is a contract of carriage except when movement is under any other authority than 49 U.S.C. 10721 and 49 U.S.C. 13712.

Cargo preference is the legal requirement that all, or a portion of all, ocean-borne cargo are transported on U.S. flag vessels.

Commuted rate system is the system under which an agency may allow its employees to make their own shipping arrangements, and apply for reimbursement.

Consignee is a person or agent to whom freight or household goods are delivered.

Consignor is a person or firm that delivers freight or household goods to a consignee.

Contract of carriage is a contract between the TSP and the agency to transport freight or household goods outside a rate schedule or a household goods tariff rate.

Debarment is an action to exclude a TSP, for a period of time, from providing services under a rate tender or any contract under the Federal Acquisition Regulation (48 CFR 9.406).

Demurrage is the penalty charge for delaying rail transportation service beyond the allowed time to load or unload.

Detention is the penalty charge for delaying truck transportation service beyond the allowed time to load or unload.

Electronic commerce is an electronic technique for carrying out business transactions (ordering and paying for goods and services), including electronic mail or messaging, Internet technology, electronic bulletin boards, credit cards, electronic funds transfers, and electronic data interchange.

Foreign flag vessel is any vessel of foreign registry including vessels owned by U.S. citizens but registered in a foreign country.

Freight consists of supplies, goods, and transportable Government property.

Government bill of lading (GBL) is the Standard Form 1103 or 1203 used as a receipt of goods, evidence of title, and a contract of carriage.

Governmentwide Transportation Policy Council (GTPC) is an interagency forum to help GSA determine policy. It provides agencies managing transportation programs a forum to exchange information and ideas to solve common problems. For further information, see web site: http://policyworks.gov/transportation.

Hazardous material is a substance or material the Secretary of Transportation labels as hazardous and determines to be an unreasonable risk to health, safety, and property when transported in commerce, and labels as hazardous under section 5103 of the Federal Hazardous Materials Transportation Law (49 U.S.C. 5103 et seq.).

Household goods (HHG) are the personal effects of Government employees and their dependents. For information on exceptions or exclusions from the definition, see the Federal Travel Regulation (41 CFR 302-1.4(j)).

Mode is a method of transportation, such as rail, motor, air, water, or pipeline.

Rate schedule is a non-binding list of freight rates and charges.

Rate tender is an offer TSPs send to an agency, which contain rates and charges for services.

Receipt is a written or electronic acknowledgment about the consignee or TSP as to when and where a shipment was received.

Release/declared value is stated in dollars and would be the maximum amount that could be recovered by the shipper in the event of loss or damage. The TSP offers a rate lower than other rates for shipping cargo at full value. The statement of released value may be shown in any applicable tariff, tender, contract or document covering the shipment of freight.

Reparation is the payment involving a TSP to or from an agency of an improper transportation billing. Improper routing, overcharges or duplicate payments may cause such improper billing. This is different from payments to settle a claim for loss and damage to items shipped under those rates.

Suspension is an action taken by an agency to disqualify a TSP from receiving orders for certain services under a contract or rate tender. A suspension is binding on the agency that initiates it, but voluntary on other agencies using the affected contract or rate tenders (48 CFR 9.407).

Transportation document is any executed agreement for transportation service, such as bill of lading, Government bill of lading (GBL), Government travel request (GTR) or transportation ticket.

Transportation service provider (TSP) is any party, person, agent or carrier that undertakes by contract or rate agreement to provide transportation and related services to an agency.

U.S. flag air carrier is an air carrier holding a certificate issued by the United States under 49 U.S.C. 41102 (49 U.S.C. 40118, 48 CFR part 47, subpart 47.4).

U.S. flag vessel is a Government vessel or a privately owned commercial vessel registered and operated under the laws of the U.S., used in commercial trade of the U.S., and owned and operated by U.S. citizens.

Subpart A—Acquiring Transportation or Related Services

§ 102-117.30 Are there mandatory services I must use when acquiring transportation or transportation related services?

No, it is your decision on what services you use when acquiring transportation or transportation related services. This part implements the Treasury, Postal and General Government Appropriations Act of 1994 (see Public Law 103-102; 107 Stat. 1226, 1247) that changed GSA to a nonmandatory source.

§ 102-117.35 What choices do I have when acquiring transportation and related services?

Your choices when acquiring transportation and related services are:

(a) Use the GSA tender of service;

(b) Use another agency's contract or rate tender with a TSP only if permitted by the terms of that agreement or if the Administrator of General Services delegates authority to another agency to enter into an agreement available to other Executive agencies;

(c) Contract directly with a TSP using the acquisition procedures under the Federal Acquisition Regulation (FAR) (48 CFR chapter 1); or

(d) Use a rate tender under the Federal transportation procurement statute, 49 U.S.C. 10721 or 13712.

§ 102-117.40 When is it advantageous for me to use another agency's contract or rate tender for transportation services?

It is advantageous to use another agency's contract or rate tender for transportation services when:

(a) Another agency's contract or rate tender offers better or equal value than otherwise available to you; or

(b) Your agency does not have experienced transportation officers.

§ 102-117.45 What other factors must I consider when using another agency's contract or rate tender?

When using another agency's contract or rate tender, you must:

(a) Include any special requirements unique to your agency; or

(b) Budget for any charges that may occur when you use another agency contract or rate tender.

§ 102-117.50 What are the advantages and disadvantages for me to contract directly with a TSP under the FAR?

(a) Generally, the FAR is an advantage to use when:

(1) You know what is shipped, to where, and when.

(2) You have sufficient time to follow the FAR procedures for a contract.

(3) Your contract office is able to handle this requirement.

(b) Using the FAR may be a disadvantage when:

(1) You do not have the time to prepare and execute a FAR contract within your particular time frame.

(2) You have shipments recurring between designated places, but do not expect sufficient volume.

(3) You prefer to use a bill of lading, transportation request or other transportation form, in which case you must use the rate tender procedures. (See § 102-117.60.)

§ 102-117.55 What are the advantages and disadvantages for me to use a rate tender?

(a) Using a rate tender is an advantage when:

(1) You have a shipment that has a short time frame requirement.

(2) You have shipments recurring between designated places, but a volume movement is not expected.

(b) Using a rate tender may be a disadvantage when you have sufficient time to use the FAR or when you require transportation service for which no rate tender currently exists.

§ 102-117.60 What are rate tenders?

(a) Rate tenders are offers the TSP sends to your agency, that contain rates and/or charges for services that are equal to or lower than those published in filed tariffs for household goods, or rate schedules for freight, which are applicable to the public (49 U.S.C. 10721 and 13712).

(b) Transportation service providers subject to the jurisdiction of the Surface Transportation Board may offer rates published in rate tenders under the Federal transportation procurement statute (49 U.S.C. 13712).

(c) Rate tenders must contain explicit terms and conditions to define the services to be performed and protect the interest of the agency and a TSP. (See § 102-117.70.)

(d) The General Services Administration maintains a collection of rate tenders for use by other agencies. For more information on GSA's rate tenders contact:

General Services Administration, Mid-Atlantic Region, 470 L'Enfant Plaza, SW., Washington, DC 20407.

Web site: http://www.midatlantic.gsa.gov/fss

§ 102-117.65 What is the importance of the terms and conditions in a rate tender or other transportation document?

(a) Terms and conditions are important to protect the Government's interest and establish the performance and standards expected of the TSP.

(b) Terms and conditions list the services the TSP is offering to perform at the cost presented in the rate tender or other transportation document.

(c) These terms and conditions are negotiated between the agency and the TSP before movement of any item in all contracts, rate tenders, or other negotiated agreements. You must reference these negotiated agreements on all transportation documents. For further information, see § 102-117.75.

(d) All rate tenders and transportation documents must reference the following terms and conditions:

(1) Charges cannot be prepaid.

(2) Charges are not paid at time of delivery.

(3) To qualify for the rates specified in a rate tender filed under the provisions of 49 U.S.C. 10721 or 13712, property must be shipped by or for the Government and the rate tender must indicate that the Government is either the consignor or the consignee and include the following statement: “Transportation is for the (agency name) and the total charges paid to the transportation service provider by the consignor or consignee are assigned to, and reimbursed by, the Government.” (Indicate that the Government is the consignor or consignee).

(4) When a rate tender is used for transportation furnished under a cost-reimbursable contract, the following statement must be included in the rate tender: “Transportation is for the (agency name), and the actual total transportation charges paid to the transportation service provider by the consignor or consignee are to be reimbursed by the Government pursuant to cost reimbursable contract (number). This may be confirmed by contacting the agency representative at (name, address and telephone number).”

(5) Other terms and conditions that may be specific to your agency or the TSP such as specialized packaging requirements or HAZMAT. For further information see the Bill of Lading Handbook.

§ 102-117.70 Where do I find more information on terms and conditions?

You may find information about terms and conditions in part 102-118 of this chapter ¹, or the Transportation Bill of Lading Handbook, published by the GSA Audit Division:

¹ Proposed 41 CFR part 102-118 is published in the Federal Register of February 22nd, 2000 (65 FR 8818).

General Services Administration, Federal Supply Service, Audit Division (FBA), 1800 F Street, NW., Washington DC 20405.

Web site: http://www.pub.fss.gsa.gov

§ 102-117.75 How do I reference the rate tender on transportation documents?

To ensure proper reference of a rate tender on all shipments, you must show the applicable rate tender number and carrier identification on all transportation documents, such as, section 13712 quotation, “ABC Transportation Company, Tender I.C.C. No. 143”.

§ 102-117.80 How are rate tenders filed?

(a) The TSP must file rate tenders in writing to your agency.

(b) You should file a copy with the GSA.

(c) The General Services Administration maintains a collection of rate tenders. For more information on GSA's rate tenders contact:

General Services Administration, Mid-Atlantic Region, 470 L'Enfant Plaza, SW., Washington, DC 20407.

Web site: http://www.midatlantic.gsa.gov/fss

§ 102-117.85 Where must I send a copy of a rate tender for audit purposes?

For audit purposes, send two copies of the rate tender to:

General Services Administration, Federal Supply Service, Audit Division (FBA), 1800 F Street, NW., Washington, DC 20405.

Web site: http://www.pub.fss.gsa.gov

§ 102-117.90 What is the difference between a Government bill of lading (GBL) and a bill of lading?

(a) Government Bills of Lading (GBL), Standard Forms 1103 and 1203, are controlled documents that convey specific terms and conditions to protect the Government interest and act as contract documents.

(b) A bill of lading is a commercial document that contains certain information prescribed by the Department of Transportation (49 CFR part 1035). A bill of lading is used for Government shipments if the specific terms and conditions of a GBL are included in any contract or rate tender (see § 102-117.70) and the bill of lading makes reference to that contract or rate tender (see § 102-117.75 and the Bill of Lading Handbook).

§ 102-117.95 May I use the Standard Forms 1103 and 1203, GBLs, to acquire freight, household goods or other related transportation services?

You may use the Standard Forms 1103 and 1203, GBLs, to acquire transportation services offered under a rate tender until September 30, 2001. The GBL will completely phase out for domestic shipments on September 30, 2001, and be replaced where necessary by commercial bills of lading. After September 30, 2001, you may use the GBL on international shipments only.

§ 102-117.100 After the GBLs retire for domestic shipments, what transportation documents may I use to acquire freight, household goods or other transportation services?

Transportation documents you use to acquire freight, household goods and other transportation services after the GBLs retire for domestic shipments include bills of lading and purchase orders but terms and conditions in the Bill of Lading Handbook will still be required. For further information on payment methods, see part 102-118 of this chapter.²

² See footnote 1 in § 102-117.70.

Subpart B—Business Rules to Consider Before Shipping Freight and Household Goods

§ 102-117.105 What business rules must I consider before acquiring transportation or related services?

Before you acquire transportation or related services you must:

(a) Route shipments using the mode or individual transportation service provider (TSP) that provides the overall best value to the agency. For more information, see § § 102-117.110 through 102-117.140.

(b) Not give preferential treatment to any TSP when arranging for transportation services.

(c) Ensure that small business concerns receive equal opportunity to compete for all business they can perform to the maximum extent possible, consistent with the agency's interest. (See 48 CFR part 19.)

(d) Encourage minority-owned businesses and women-owned businesses, to compete for all business they can perform to the maximum extent possible, consistent with the agency's interest. (See 48 CFR part 19.)

(e) Review the Government's policy about insurance while the TSP has the property and decide whether or not to insure the shipment or buy insurance. Generally, the Government is self-insured; however, there are instances when the Government may buy insurance coverage for Government property. An example may be cargo insurance for international air cargo shipments to cover losses over those allowed under the International Air Transport Association (IATA) and similarly for ocean freight shipments.

(f) Consider the added requirements on international transportation found in subpart C of this part.

§ 102-117.110 What does best value mean when routing shipments?

Best value to your agency in routing shipments means using the mode, or individual TSP that provides the best combination of satisfactory service, total delivery cost, equally shared services, and most fuel-efficient. Some of these items are explained in § § 102-117.115 through 102-117.140.

§ 102-117.115 What is satisfactory service?

You should consider the following factors to decide satisfactory service of a TSP:

(a) Availability and suitability of the TSP's equipment;

(b) Adequacy of shipping and receiving facilities at origin and destination;

(c) Adequacy of pickup and/or delivery service;

(d) Availability of accessorial and special services;

(e) Estimated time in transit;

(f) Record of past performance of the TSP;

(g) Warehouse equipment and storage capability;

(h) Experience of company, management, and personnel to perform the requirements; and

(i) Accuracy of billing.

§ 102-117.120 How do I calculate total delivery costs?

You calculate total delivery costs for your agency by considering all costs to the shipping or receiving process, such as packing, blocking, bracing, drayage, loading and unloading, and transporting.

§ 102-117.125 To what extent must I distribute orders for transportation and related services equally among TSPs?

(a) You must distribute orders for transportation and related services equally among TSPs to the extent that the selected TSPs provide the same level of service, cost, fuel-efficient equipment and other services.

(b) You must assure that socially or economically disadvantaged and women owned TSPs have equal opportunity to provide the transportation or related services.

§ 102-117.130 How detailed must I describe property for shipment?

You must describe property in sufficient detail to clarify for the TSP, what equipment the TSP needs to move the shipment. Details might include weight, volume, measurements, routing, hazardous cargo, special handling, clearance requirements, etc.

§ 102-117.135 What factors must I use to decide the most fuel-efficient TSP?

To decide the most fuel-efficient TSP, you must consider factors such as nearness of the TSP's equipment to the shipping activity and ability of TSPs to provide the most direct service to the destination points.

§ 102-117.140 Must I select TSPs who use alternative fuels?

No; however, you are encouraged to select TSPs that use alternative fuel vehicles and equipment, whenever possible, under policy in the Clean Air Act Amendments of 1990 (42 U.S.C. 7612) or the Energy Policy Act of 1992 (42 U.S.C. 13212).

Subpart C—Restrictions That Affect Transportation of Freight and Household Goods

§ 102-117.145 Are there any specific restrictions for international transportation?

Yes, several statutes mandate the use of U.S. flag carriers. For example, arrangements for air transportation services must follow the Fly America Act (International Fair Competitive Practices Act of 1974) (49 U.S.C. 40118). International movement of property requires the use of U.S. flag carriers when services are available. (See 48 CFR part 47, subparts 47.4 and 47.5.)

§ 102-117.150 What is cargo preference?

Cargo preference is the statutory requirement that all, or a portion of all, ocean-borne cargo that moves internationally be transported on U.S. flag vessels. Deviations or waivers from the cargo preference laws must be approved by:

Department of Transportation, Maritime Administration, Office of Cargo Preference, 400 7th Street, SW. Washington, DC 20590.

Web site: http://www.marad.dot.gov/

§ 102-117.155 What are the coastwise laws?

Coastwise laws refers to several laws governing the shipment of freight, household goods and passengers by water. The broad purposes are to assure reliable shipping service and the existence of a maritime capability in times of war or national emergency. (See section 27 of the Merchant Marine Act of 1920, 46 App. U.S.C. 883, 19 CFR 4.80.)

§ 102-117.160 What do I need to know about the coastwise laws?

You need to know that:

(a) Goods transported entirely or partly by water between U.S. points, either directly or via a foreign point, must travel in U.S. Maritime Administration (MARAD) authorized U.S. Flag vessels;

(b) There are exceptions and limits with the U. S. Island territories and possessions in the Atlantic and Pacific Oceans (see § 102-117.150).

(c) The Secretary of the Treasury is empowered to impose monetary penalties against agencies violating the coastwise laws.

§ 102-117.165 Where do I go for further information or exceptions to the coastwise laws?

You may refer to 46 App. U.S.C. 883, 19 CFR 4.80, DOT MARAD, the U.S. Coast Guard or U.S. Customs Service for further information or exceptions to the coastwise laws.

Subpart D—Shipping Freight

§ 102-117.170 What is freight?

Freight includes supplies, goods and any transportable property, other than household goods.

§ 102-117.175 What shipping process must I use for freight?

(a) For domestic shipments you must:

(1) Identify what you are shipping;

(2) Decide if the cargo is HAZMAT, classified, or sensitive which may require special handling or placard requirements;

(3) Decide mode;

(4) Check for applicable contracts or rate tenders;

(5) Select and contract with the most efficient and economical TSP that gives the best value;

(6) Prepare shipping documents; and

(7) Schedule pickup, oversee shipment, declare released value and ensure prompt delivery with a fully executed receipt.

(b) For international shipments you must follow all the domestic procedures and comply with the cargo preference laws for ocean freight. For specific information, see subpart C of this part.

§ 102-117.180 What reference materials are available for shipping freight?

(a) The following handbooks and guides are a partial list of those that may be available from GSA:

(1) How to Prepare Bills of Lading.

(2) Limited Authority to Use Commercial Forms and Procedures.

(3) Submission of Transportation Documents.

(4) Things to be Aware of When Routing or Receiving Freight Shipments.

(b) For these and other reference materials, you should contact either of the following:

General Services Administration, Federal Supply Service, Audit Division (FBA), 1800 F Street, NW, Washington, DC 20405.

Web site: http://pub.fss.gsa.gov/ota

General Services Administration, Federal Supply Service, Office of Transportation and Property Management, Transportation Management Division (FBF), Crystal Mall Bldg. #4, Room 814, Washington, DC 20406.

Web site: http://www.gsa.gov/fsstt

§ 102-117.185 What determines the mode of transportation?

Your urgency and special shipping requirements determine which mode of transportation you select. Each mode has unique requirements for documentation, liability, size, weight and delivery times. HAZMAT, radioactive, and other specialized cargo may require special permits and may prohibit one or more modes of transportation.

§ 102-117.190 What documents must I use to ship freight?

The documents used to ship freight differ depending on whether the shipment is by land, ocean or air as follows:

(a) By land (domestic shipments), use freight waybills;

(b) By land (international shipments) use the GBL;

(c) By ocean, use ocean bills of lading, when suitable, with the GBL; and

(d) By air, use commercial air waybills.

§ 102-117.195 Where do I send a copy of these documents?

The GSA Audit Division is the repository of all transportation documents for future claims, court actions and audit purposes. You must forward an original copy of all transportation documents to:

General Services Administration, Federal Supply Service, Audit Division (FBA), 1800 F Street, NW., Washington, DC 20405.

Subpart E—Shipping Hazardous Material (HAZMAT)

§ 102-117.200 What is HAZMAT?

HAZMAT is a substance or material the Secretary of Transportation labels as hazardous and determines to be an unreasonable risk to health, safety and property when transported in commerce. Therefore, there are restrictions on transporting HAZMAT (49 U.S.C. 5103 et seq.).

§ 102-117.205 What are the restrictions for transporting HAZMAT?

Agencies that ship HAZMAT are subject to regulations of the Environmental Protection Agency and the Department of Transportation.

§ 102-117.210 Where can I get guidance on transporting HAZMAT?

The Secretary of Transportation prescribes regulations for the safe transportation of HAZMAT in intrastate, interstate, and foreign commerce in 49 CFR parts 171 through 180. The Environmental Protection Agency also prescribes regulations on transporting HAZMAT in 40 CFR parts 260 through 266. You may also call the HAZMAT information hotline at 1-800-467-4922 (Washington, DC area, call 202-366-4488).

Subpart F—Shipping Household Goods

§ 102-117.215 What are household goods?

Household goods (HHG) are the personal effects of agency employees and their dependents.

§ 102-117.220 What choices do I have to ship HHG?

(a) You may choose to ship HHG by:

(1) Contracting directly with a TSP (including relocation companies that offer transportation services) using the acquisition procedures under the Federal Acquisition Regulation (FAR) (see § 102-117.35);

(2) Using another agency's contract with a TSP (see § 102-117.55);

(3) Using a rate tender under 49 U.S.C. 10721 or 13712 (see § 102-117.60); or

(4) Using the commuted rate system.

(b) You may request the Department of State to assist with shipments of HHG moving to, from, and between foreign countries or international shipments originating in the continental United States. The nearest U.S. Embassy or Consulate may assist with arrangements of movements originating abroad. For further information contact:

Department of State, Transportation Operations, 2201 C Street, NW., Washington, DC 20520.

§ 102-117.225 What is the difference between a contract, a rate tender and a commuted rate system?

(a) Under a contract and a rate tender, the agency prepares the bill of lading and books the shipment. The agency is the shipper and pays the TSP the applicable charges. If loss or damage occurs, the agency may either file claims on behalf of the employee directly with the TSP, or help the employee in filing claims against the TSP.

(b) The commuted rate system is the system under which an agency allows an employee to make their own arrangements for transporting HHG at agency expense. Use this method only within the continental United States (not Hawaii or Alaska.) The employee receives reimbursement from the agency according to the Commuted Rate Schedule published by the GSA. The Commuted Rate Schedule is available on the Internet at http://www.policyworks.gov or by contacting:

General Services Administration (GSA) National Customer Service Center 1500 Bannister Rd., Kansas City, MO 64131.

Web site: http://www.ks.gsa.gov./fsstt

§ 102-117.230 Must I perform a cost comparison between a contract, a rate tender and the commuted rate system before choosing which method to use?

Yes, you must perform a cost comparison between a contract, a rate tender, and the commuted rate system prior to making your decision.

§ 102-117.235 Why is a cost comparison necessary?

A cost comparison is necessary to determine if the commuted rate system is less than if the Government shipped the HHG. While the commuted rate system is an option, it is only an alternative if there is a savings to the Government of $100 or more. For employees who still choose this method, see § § 102-117.245 and 102-117.250.

§ 102-117.240 How do I get a cost comparison?

(a) You may calculate a cost comparison internally (see 41 CFR 302-8.3 for requirements of a cost comparison).

(b) You may request GSA to perform the cost comparisons by sending GSA the following information as far in advance as possible (preferably 30 calendar days):

(1) Name of employee;

(2) Origin city, county and State;

(3) Destination city, county, and State;

(4) Date of household goods pick up;

(5) Estimated weight of shipments;

(6) Number of days storage-in-transit (if applicable); and

(7) Other relevant data.

(c) For more information on cost comparisons contact:

General Services Administration, Federal Supply Service, Office of Transportation and Property Management, Transportation Management Division (FBF), Crystal Mall Bldg. #4, Room 814, Washington, DC 20406.

Web site: http://www.ks.gsa.gov/fsstt

§ 102-117.245 What is my agency's financial responsibility to an employee who chooses to move all or part of his/her HHG under the commuted rate system?

(a) Your agency is only responsible for reimbursing the employee what it would cost the Government to ship the employee's HHG.

(b) If the cost of transportation arranged by the employee is less than what it would cost the Government, the Government saves, and reimburses the employee for the actual expenses of the move.

(c) If the cost of transportation arranged by the employee is more than what it would cost the Government, the employee is liable for the additional cost.

Note to § 102-117.245: For more information and how to determine what it would cost the Government to ship HHG, refer to 41 CFR 302-8.3.

§ 102-117.250 What is my responsibility in providing guidance to an employee who wishes to select a more expensive TSP?

You must counsel employees that they may be liable for all costs above the amount reimbursed by the agency if they select a TSP that charges more than provided under the commuted rate schedule.

§ 102-117.255 What are my responsibilities after the household goods are shipped?

(a) You must counsel employees to fill out their portion of the GSA Form 3080, Household Goods Carrier Evaluation Report. This form reports the quality of the TSP's performance.

(b) After completing the appropriate sections of this form, the employee must send it to the bill of lading issuing officer who in turn will complete the form and forward to:

General Services Administration, National Customer Service Center, 1500 Bannister Rd., Kansas City, MO 64131.

Web site: http://www.kc.gsa.gov.fss/fsstt

§ 102-117.260 What actions may I take if the TSP's performance is not satisfactory?

If the TSP's performance is not satisfactory, you may place a TSP in temporary nonuse, debarred status, or suspended status. For more information, see subpart H of this part and the FAR (see 48 CFR 9.406-3 and 9.407-3).

§ 102-117.265 What must I do if there is an overage, shortage, loss or damage to the property shipped?

You must prepare a discrepancy report documenting any differences in the quantity or condition of property received.

§ 102-117.270 Where do I go for details on preparing discrepancy reports?

For details, refer to the GSA handbook, “Discrepancies or Deficiencies in GSA or DOD Shipments, Material or Billings.” (See 41 CFR part 101-26, subpart 101-26.8.)

§ 102-117.275 Where do I send discrepancy reports?

You must send discrepancy reports to the TSP and:

General Services Administration, National Customer Service Center, 1500 Bannister Road, Kansas City, MO 64131.

Web site: http://www.ks.gsa.gov/fsstt

§ 102-117.280 What are my responsibilities to employees regarding the TSP's liability for loss or damage claims?

(a) In general, you must notify employees of their rights and procedures to file claims.

(b) You must advise employees on the limits of the TSP's liability for loss of and damage to their HHG so the employee may evaluate the need for added insurance.

(c) File claims for loss and damage to HHG with the TSP. Depending on agency policy, you must notify employees whether they or the agency will file claims for the repair, replacement, or loss of HHG.

(d) Employees who sustain a loss or damage to their HHG that exceeds the amount recovered from a TSP in settlement of a claim may a claim against the United States for the difference. Agencies may compensate employees up to $40,000 on claims for loss and damage under 31 U.S.C. 3721, 3723 (41 CFR 302-8.2(f)).

(e) When the agency's policy is not to compensate its employees, the agency must advise employees of the options available for insuring their HHG against greater monetary loss.

§ 102-117.285 Can I file a claim for loss or damage to property?

Yes, you may file a claim for loss or damage with the TSP.

§ 102-117.290 Are there time limits affecting the filing of a claim?

Yes, several statutes limit the time for administrative or judicial action against a TSP.

§ 102-117.295 Does each mode have different time limits for administrative claims?

Yes, each mode and type of claim (freight charges, reparations, and loss and damage) have different statutory time limits.

§ 102-117.300 What are the time limits for judicial claims?

The following table lists the time limits on actions taken by an agency, based on mode and type of claim:

Time Limits On Actions Taken By Federal Government Against TSP
Mode | Freight charges ¹ | Reparations | Loss and damage
(a) Rail | 3 years 49 U.S.C. 11705(f) | 3 years 49 U.S.C. 11705(f) | 6 years 28 U.S.C. 2415
(b) Motor | 3 years 49 U.S.C. 14705(f) | 3 years 49 U.S.C. 14705(f) | 6 years 28 U.S.C. 2415
(c) Freight Forwarders Subject to the IC Act | 3 years 49 U.S.C. 14705(f) | 3 years 49 U.S.C. 14705(f) | 6 years 28 U.S.C. 2415
(d) Water Subject to the IC Act | 3 years 49 U.S.C. 14705(f) | 3 Years 49 U.S.C. 14705(f) | 6 years 28 U.S.C. 2415
(e) Water Not subject to the IC Act | 6 years 28 U.S.C. 2415 | 2 Years 46 U.S.C. apps 1713(e) | 1 Year 46 U.S.C. 1303 (6) (if subject to Carriage of Goods by Sea Act, 46 USC 1300-1315
(f) Domestic Air | 6 years 28 U.S.C. 2415 |  | 6 years 28 U.S.C. 2415
(g) International Air | 6 years 28 U.S.C. 2415 |  | 2 years 49 U.S.C. 40105
¹ Freight charges refer to the appropriateness of the charge or discriminatory pricing.

Subpart G—Performance Measures

§ 102-117.305 What are performance measures in transportation?

(a) Performance measures are indicators of how you are supporting your customers and doing your job. With this information and data you can provide your management specific accomplishments and explain how your success is supporting the agency mission. Agencies will adapt techniques to better manage mode, service, and cost of transportation. In addition, the Government Performance and Results Act (GPRA) of 1993 (31 U.S.C. 1115), requires agencies to develop business plans and set up program performance measures.

(b) Examples of performance measurements in transportation would include how well you:

(1) Increase the use of electronic commerce and reduce data requirements;

(2) Increase use of commercial products and services to meet your agency requirements;

(3) Use TSPs with a track record of successful past performance or proven superior ability;

(4) Promote competition in moving agency freight and household goods;

(5) Assure that delivery of freight and household goods is on time against measured criteria;

(6) Benchmark existing practices between agencies and industry for the best practices;

(7) Create simplified procedures to be responsive and adaptive to the customer needs and concerns;

(8) Determine customer satisfaction on carrier performance; and

(9) Any specific measure that furthers your agency's mission.

Subpart H—Transportation Service Provider (TSP) Performance

§ 102-117.310 What performance may I expect from a TSP?

You may expect the TSP to provide consistent and satisfactory service to meet your agency transportation needs.

§ 102-117.315 What aspects of the TSP's performance are important to measure?

Important performance measures may include, but are not limited to the:

(a) TSP's percentage of on-time deliveries;

(b) Percentage of shipments that include overcharges or undercharges;

(c) Percentage of claims received in a given period;

(d) Percentage of returns received on-time;

(e) Percentage of shipments rejected;

(f) Percentage of billing improprieties;

(g) Average response time on tracing shipments;

(h) TSP's safety record (accidents, losses, damages or misdirected shipments) as a percentage of all shipments;

(i) TSP's driver record (accidents, traffic tickets and driving complaints) as a percentage of shipments; and

(j) Percentage of customer satisfaction reports on carrier performance.

§ 102-117.320 What are my choices if a TSP's performance is not satisfactory?

You may choose to place a TSP in temporary nonuse, suspension, or debarment.

§ 102-117.325 What is the difference between temporary nonuse, suspension and debarment?

(a) Temporary nonuse is limited to your agency and initiated by the agency transportation officers. A TSP may be placed in temporary nonuse for a period not to exceed 90 days for:

(1) Willful violations of the terms of the rate tender;

(2) Persistent or willful failure to meet requested packing and pickup service;

(3) Failure to meet required delivery dates;

(4) Violation of Department of Transportation hazardous material regulations;

(5) Mishandling of freight, damaged or missing transportation seals, improper loading, blocking, packing or bracing of property;

(6) Improper routing of property;

(7) Failure to pay just debts to ensure shipments are not unlawfully seized or detained;

(8) Operating without legal authority;

(9) Failure to settle claims according to Government regulations; and

(10) Repeated failure to comply with regulations of the Department of Transportation, Surface Transportation Board, State or local Governments or failure to comply with other Government regulations.

(b) Suspension is disqualifying a TSP from receiving orders for certain services under a contract or rate tender pending an investigation or legal proceeding. A suspension is binding on the agency that initiates it, but voluntary on other agencies using the affected contract or rate tender. A TSP may be suspended on adequate evidence of:

(1) Fraud or a criminal offense in connection with obtaining, attempting to obtain, or performing a contract for transportation;

(2) Violation of Federal or State antitrust statutes;

(3) Embezzlement, theft, forgery, bribery, falsification or destruction of records, making false statements, or receiving stolen property; and

(4) Any other offense indicating a lack of business integrity or business honesty which seriously and directly affects the present responsibility of the TSP as a transporter of the Government's property or the HHG of its employees relocated in the interest of the Government.

(c) Debarment means action taken to exclude a contractor from contracting with all Federal agencies. The seriousness of the TSP's acts or omissions and the mitigating factors must be considered in making any debarment decisions. A TSP may be debarred for the following reasons:

(1) Failure of a TSP, within the period of temporary nonuse, to correct any of the causes; or

(2) Conviction of or civil judgment for any of the causes for suspension.

§ 102-117.330 Who makes these decisions?

(a) The transportation officer may place a TSP in temporary nonuse for a period not to exceed 90 days.

(b) The serious nature of suspension and debarment requires that these sanctions be imposed only in the public interest for the Government's protection and not for purposes of punishment. Only the agency head or his/her designee authorized by the agency may debar or suspend.

§ 102-117.335 Do these decisions go beyond the agency?

(a) Temporary nonuse does not go beyond the agency. Agencies must notify GSA of all suspended or debarred TSPs. (See § 102-117.350.)

(b) GSA compiles and maintains a current list of all suspended or debarred TSPs and periodically distributes the list to all agencies and the General Accounting Office.

§ 102-117.340 Where do I go for additional information on the process for suspending or debarring of a TSP?

Refer to the Federal Acquisition Regulation (48 CFR part 9, subpart 9.4) for policies and procedures governing the suspension and debarment of a TSP.

§ 102-117.345 What records must I keep on temporary nonuse, suspension or debarment of a TSP?

(a) You must set up a program to follow your agency's internal record retention procedures for documentation related to TSPs placed in a nonuse, suspended or debarred status.

(b) For temporary nonuse your records must contain the following information:

(1) Name, address, and Standard Carrier Alpha Code and Taxpayer Identification Number of each TSP placed in temporary nonuse status;

(2) The duration and scope of the temporary nonuse status;

(3) The cause for imposing temporary nonuse, and the facts showing the existence of such a cause;

(4) Information and arguments in opposition to the temporary nonuse period sent by the TSP or its representative; and

(5) The reviewing official's determination about keeping or removing temporary nonuse status.

(c) For suspended or debarred TSP's your records must include the same information as paragraph (b) of this section and you must:

(1) Assure your agency does not award contracts to suspend or debarred TSP's.

(2) Notify GSA. (See § 102-117.350.)

§ 102-117.350 Who must I notify on suspension or debarment of a TSP?

Agencies must report any suspension or debarment actions monthly to the:

(a) General Services Administration, Federal Supply Service, Audit Division (FBA), 1800 F Street, NW., Washington, DC 20405, Web site: http://pub.fss.gsa.gov/ota;

(b) General Services Administration, Federal Supply Service, Office of Transportation and Property Management, Transportation Management Division (FBF), Crystal Mall Bldg. #4, Room 814, Washington, DC 20406, Web site: http://www.ks.gsa.gov/fsstt; and

(c) General Services Administration, GSA Board of Contract Appeals, 1800 F Street, NW., Room 4027, Washington, DC 20405, Web site: http://epls.arnet.gov.

Subpart I—Representation Before Regulatory Body Proceedings

§ 102-117.355 What are transportation regulatory body proceedings?

Transportation regulatory body proceedings are hearings before a transportation governing entity, such as a State Public Utility Commission or the Surface Transportation Board. These proceedings may be at the Federal or State level depending on the activity regulated.

§ 102-117.360 May my agency appear on its own behalf before transportation regulatory body proceedings?

Generally, unless so delegated by the Administrator of General Services, no executive agency may appear on its own behalf in any proceeding before a transportation regulatory body. The statutory authority for the Administrator of General Services to participate in regulatory proceedings is in section 201(a)(4) of the Federal Property and Administrative Services Act of 1949, as amended (40 U.S.C. 481(a)(4)).

§ 102-117.365 When or under what circumstances would GSA delegate authority to appear before transportation regulatory body proceedings?

GSA will delegate authority to appear before transportation regulatory body proceedings when it does not have the expertise, or when it is out of GSA's scope, to make determinations on issues such as protests of rates, routings or excessive charges.

§ 102-117.370 How does my agency ask for a delegation to represent itself in a regulatory body proceeding?

You must send requests with enough detail to explain the circumstances surrounding the need for delegation of authority for representation to:

General Services Administration, Office of Governmentwide Policy (MT), 1800 F Street, NW., Washington, DC 20405.

§ 102-117.375 What oversight authority does GSA have on transportation?

(a) The GSA has oversight of public utilities used by the Federal Government including transportation. There are specific requirements a TSP must go through on the State level, such as the requirement to obtain a certificate of public convenience and necessity.

(b) Further, a TSP must obtain an affidavit from those agencies that would use the TSP. As an oversight mandate, GSA coordinates this function.

(c) GSA has a list of TSPs, which meet certain criteria regarding insurance and safety, approved by the Department of Transportation. You must furnish GSA with an affidavit to determine if the TSP meets the basic qualification to protect the Government's interest. For further information contact:

General Services Administration, Federal Supply Service, Office of Transportation and Property Management, Transportation Management Division (FBF), Crystal Mall Bldg. #4, Room 814, Washington, DC 20406.

Subpart J—Reports

§ 102-117.380 Is there a requirement for me to report to GSA on my transportation activities?

(a) Yes, GSA will work with your agency and other agencies to develop reporting requirements and procedures. In particular, GSA will develop a Governmentwide transportation reporting system by October 1, 2002.

(b) Preliminary reporting requirements may include an electronic formatted report on the quantity shipped, locations (from and to) and cost of transportation. The following categories are examples:

(1) Dollar amount spent for transportation;

(2) Volume of weight shipped;

(3) Commodities shipped;

(4) HAZMAT shipped;

(5) Mode used for shipment;

(6) Location of items shipped (international or domestic); and

(7) Domestic subdivided by East and West (Interstate 85).

§ 102-117.385 How will GSA use the reporting requirements?

(a) Reporting on transportation and transportation related services will provide GSA:

(1) The ability to assess the magnitude of transportation within the Government;

(2) Information on best practices;

(3) Data to analyze and recommend changes to policies, standards, practices, and procedures to improve Government transportation; and

(4) A better understanding of how your activity relates to other agencies and your influence on the Governmentwide picture of transportation services.

(b) In addition, this information will assist you in showing your management the magnitude of your agency's transportation program and the effectiveness of your efforts to control cost and improve service.

Subpart K—Governmentwide Transportation Policy Council (GTPC)

§ 102-117.390 Is there a Government forum where I can share my concerns and receive information on the challenges of transporting freight and household goods?

Yes, the Office of Governmentwide Policy sponsors a Governmentwide Transportation Policy Council (GTPC) to help agencies in the establishment, improvement and maintenance of effective transportation management policies, practices and procedures. The council:

(a) Collaborates with private and public stakeholders to promote solutions that lead to effective results and develop valid measures of performance; and

(b) Provides assistance in developing the Governmentwide transportation reporting system (see § 102-117.10).

§ 102-117.395 Where can I get more information about the GTPC?

If you or a TSP have questions, comments or suggestions to help increase the effectiveness of Government transportation policy, contact:

General Services Administration, Office of Governmentwide Policy (MT), 1800 F Street, NW., Washington, DC 20405.

Web site: http://policyworks.gov/transportation

Dated: February 15, 2000.
G. Martin Wagner,
Associate Administrator for Governmentwide Policy.

[FR Doc. 00-4060 Filed 2-25-00; 8:45 am]

BILLING CODE 6820-24-P